DEPARTMENT OF TRANSPORTATION

Federal Aviation Administration

14 CFR Part 71

[Airspace Docket No. 99-AGL-60]

Modification of Class E Airspace; Watertown, SD, and Britton, SD

AGENCY: Federal Aviation Administration (FAA), DOT.

ACTION: Final rule.

SUMMARY: This action modifies Class E airspace at Watertown, SD, and Britton, SD. A review of the controlled airspace within the States of North Dakota and South Dakota conducted after the cancellation of a portion of Federal Airway 220 (V-220), Airspace Docket No. 98-AGL-49, published September 7, 1999, indicated several small portions of Class G uncontrolled airspace being created between Wahpeton, ND, and Brookings, SD. Controlled airspace extending upward from 1200 feet above ground level (AGL) is needed to allow the FAA to provide safe and efficient air traffic control services for aircraft executing enroute and terminal instrument procedures into and out of numerous airports in that area. These small portions of uncontrolled airspace cause confusion for the both pilots and controllers and do not allow for consistent application of instrument flight rules in a critical area servicing these airports. This action eliminates these Class G portions of airspace between Wahpeton, ND, and Brookings, SD, by revising the Class E airspace for Watertown, SD. This revision causes a minor change to the airspace exclusions in the legal description for the Class E airspace for Britton, SD.

EFFECTIVE DATE: 0901 UTC, June 15, 2000.

FOR FURTHER INFORMATION CONTACT: Denis C. Burke, Air Traffic Division, Airspace Branch, AGL-520, Federal Aviation Administration, 2300 East Devon Avenue, Des Plaines, Illinois 60018, telephone (847) 294-7568.

SUPPLEMENTARY INFORMATION:

History

On Wednesday, February 2, 2000, the FAA proposed to amend 14 CFR part 71 to modify Class E airspace at Watertown, SD, and Britton, SD (65 FR 4910). The proposal was to modify controlled airspace extending upward from 1200 feet above the surface to contain Instrument Flight Rules (IFR) operations in controlled airspace during portions of the terminal operation and while transiting between the enroute and terminal environments.

Interested parties were invited to participate in this rulemaking proceeding by submitting written comments on the proposal to the FAA. No comments objecting to the proposal were received. Class E airspace designations for airspace areas extending upward from 700 feet or more above the surface of the earth are published in paragraph 6005 of FAA Order 7400.9G dated September 1, 1999, and effective September 16, 1999, which is incorporated by reference in 14 CFR 71.1. The Class E airspace designation listed in this document will be published subsequently in the Order.

The Rule

This amendment to 14 CFR part 71 modifies Class E airspace at Watertown, SD, and Britton, SD, to accommodate aircraft executing instrument flight procedures into and out of numerous airports in southeastern North Dakota, northeastern South Dakota, and western Minnesota. Several small portions of uncontrolled airspace between Wahpeton, ND, and Brookings, SD, created as a result of the cancellation of a portion of Federal Airway 220 (V-220), Airspace Docket No. 98-AGL-49, published September 7, 1999 (64 FR 48527), are eliminated. The area will be depicted on appropriate aeronautical charts.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 95665, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

* * * * *

Paragraph 6005 Class E airspace areas extending upward from 700 feet or more above the surface of the earth.

* * * * *

AGL SD E5 Watertown, SD [Revised]

Watertown Municipal Airport, SD

(Lat. 44°54′51″ N., long. 097°09′ 17″ W.)

Watertown VORTAC

(Lat. 44°58′47″ N., long. 097°08′30″ W.)

That airspace extending upward from 700 feet above the surface within a 6.8-mile radius of Watertown Municipal Airport and within 4.0 miles each side of the Watertown VORTAC 006° radial extending from the 6.8-mile radius to 10.6 miles north of the airport, and within 1.9 miles each side of the south localizer course extending from the 6.8-mile radius to 11.7 miles south of the airport, and that airspace extending upward from 1,200 feet above the surface within an area bounded on the north by lat. 46°30′00″ N., on the east by the Minnesota/North Dakota and Minnesota/South Dakota borders, on the south by lat. 44°30′00″ N, and on the west by long. 097°00′00″ W, excluding that airspace within the Fargo, ND, 1,200 foot Class E airspace area and all Federal airways.

* * * * *

AGL SD E5 Britton, SD [Revised]

Britton Municipal Airport, SD

(Lat. 45°48′55″ N., long. 097°44′35″ W.)

That airspace extending upward from 700 feet above the surface within a 7.0-mile radius of the Britton Municipal Airport, and that airspace extending upward from 1,200 feet above the surface bounded on the west by long. 98°30′00″ W, on the north by lat. 46°30′00″ N, on the east by long. 97°00′00″ W, and on the south by lat. 44°30′00″ N, excluding the Fargo, ND, Huron, SD, and Aberdeen, SD, 1,200 foot Class E airspace areas and all Federal airways.

* * * * *

Issued in Des Plaines, Illinois on March 27, 2000.
David B. Johnson,
Acting Manager, Air Traffic Division.

[FR Doc. 00-9404 Filed 4-14-00; 8:45 am]

BILLING CODE 4910-13-M